DEPARTMENT OF JUSTICE

Notice of Lodging of Proposed Consent Decree Under the Clean Air Act

On March 10, 2016, the Department of Justice lodged a proposed consent decree with the United States District Court for the District of Maryland in the lawsuit entitled United States v. Westvaco Corporation, Civil Action No. 00-2602.

Until May 2005, Westvaco owned and operated an integrated pulp and paper mill in Western Maryland known as the Luke Mill. The complaint filed by the United States alleges inter alia that Westvaco violated the Clean Air Act's Prevention of Significant Deterioration (“PSD”) regulations by making a “major modification” to the Luke Mill without first obtaining a PSD permit and without installing and operating Best Available Control Technology (“BACT”) to control emissions of sulfur dioxide from the mill's No. 25 power boiler. The United States' claim for civil penalties was dismissed as time barred. The United States' claim for injunctive relief, in the form of BACT on the No. 25 power boiler, was denied because Westvaco no longer owns or operates the Luke Mill. The consent decree requires the defendant to pay $1.6 million, split equally between the National Park Service and the U.S. Forest Service, to be used to implement projects in Shenandoah National Park and the Monongahela National Forest to mitigate the adverse effects of acidic deposition.

The publication of this notice opens a period for public comment on the consent decree. Comments should be addressed to the Assistant Attorney General, Environment and Natural Resources Division, and should refer to United States v. Westvaco Corporation, D.J. Ref. No. 90-5-2-1-06444. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $3.75 (25 cents per page reproduction cost) payable to the United States Treasury.

Robert Brook,
Assistant Section Chief, Environmental Enforcement Section, Environment and Natural Resources Division.

[FR Doc. 2016-05876 Filed 3-15-16; 8:45 am]

BILLING CODE 4410-15-P